DEPARTMENT OF TRANSPORTATION

Federal Aviation Administration

RTCA Special Committee 186: Automatic Dependent Surveillance—Broadcast (ADS-B)

AGENCY: Federal Aviation Administration (FAA), DOT.

ACTION: Notice of RTCA Special Committee 186 meeting.

SUMMARY: The FAA is issuing this notice to advise the public of a meeting of RTCA Special Committee 186: Automatic Dependent Surveillance—Broadcast (ADS-B).

DATES: The meeting will be held April 8-12, 2002 starting at 9:00 am.

ADDRESSES: The meeting will be held at RTCA, Inc., 1828 L Street, NW, Suite 805, Washington, DC 20036.

FOR FURTHER INFORMATION CONTACT: RTCA Secretariat, 1828 L Street, NW, Suite 805, Washington, DC 20035; telephone (202) 833-9339; fax (202 833-9434; web site http://www.rtca.org.

SUPPLEMENTARY INFORMATION: Pursuant to section 10(a)(2) of the Federal Advisory Committee Act (P.L. 92-463, 5 U.S.C., Appendix 2), notice is hereby given for a Special Committee 186 meeting. Note: Special working group sessions will be held April 8-9 and on April 12. The plenary agenda will include:

• April 10-11:

• Opening Plenary Session (Chairman's Introductory Remarks, Review of Meeting Agenda, Review/Approval of Previous Meeting Summary)

• SC-186 Activity Reports

• WG-1, Operations & Implementation

• WG-2, Traffic Information Service—Broadcast (TIS-B)

• WG-3, 1090 MHz Minimum Operational Performance Standard (MOPS)

• WG-4, Application Technical Requirements

• WG-5, Universal Access Transceiver (UAT) MOPS

• WG-6, Automatic Dependent Surveillance-Broadcast (ADS-B) Minimum Aviation System Performance Standard (MASPS)

• EUROCAE WG-51 Report (Sub-groups 1-3)

• Review and Approve Proposed Final Draft FTCA DO-242A, Minimum Aviation System Performance Standards for Automatic Dependent Surveillance Broadcast (ADS-B), RTCA Paper No. 044-02/SCI186-188

• UAT MOPS Review Status

• Analysis and Review of Modeling Assumptions

• TIS-B MOPS Review Status

• Closing Plenary Session (Other Business, Review Actions Items/Work Program, Date, Place and Time of Next Meeting, Adjourn)

Attendance is open to the interested public but limited to space availability. With the approval of the chairman, members of the public may present oral statements at the meeting. Persons wishing to present statements or obtain information should contact the person listed in the FOR FURTHER INFORMATION CONTACT section. Members of the public may present a written statement to the committee at any time.

Issued: in Washington, DC, on March 11, 2002.
Janice L. Peters,
FAA Special Assistant, RTCA Advisory Committee.

[FR Doc. 02-6970 Filed 3-22-02; 8:45 am]

BILLING CODE 4910-13-M